DEPARTMENT OF COMMERCE

International Trade Administration

[A-570-981]

Utility Scale Wind Towers From the People's Republic of China: Notice of Rescission of Antidumping Duty Administrative Review; 2013-2014

AGENCY: Enforcement and Compliance, International Trade Administration, Department of Commerce.

SUMMARY: The Department of Commerce (“the Department”) is rescinding its administrative review of utility scale wind towers (“wind towers”) from the People's Republic of China (“PRC”) for the period February 13, 2013, through January 31, 2014 (“POR”), based on the withdrawal of request for review.

DATES: Effective Date: October 15, 2014.

FOR FURTHER INFORMATION CONTACT: Trisha Tran, AD/CVD Operations, Office IV, Enforcement and Compliance, International Trade Administration, U.S. Department of Commerce, 14th Street and Constitution Avenue NW., Washington, DC 20230; telephone: (202) 482-4852.

SUPPLEMENTARY INFORMATION:

Background

On February 3, 2014, the Department published the notice of opportunity to request an administrative review of the antidumping duty order on wind towers from the PRC for the POR.¹ On February 27, 2014, in accordance with section 751(a) of the Tariff Act of 1930, as amended (the “Act”), and 19 CFR 351.213(b), the Department received a timely a request from the Wind Tower Trade Coalition (“Petitioner”) to conduct an administrative review of the sales of 47 named companies that produce or export wind towers directly to the United States.²

¹ See Antidumping or Countervailing Duty Order, Finding, or Suspended Investigation; Opportunity to Request Administrative Review, 79 FR 6159 (February 3, 2014).

² See Letter from Petitioner, “Utility Scale Wind Towers from the People's Republic of China: Request for Administrative Review,” dated February 27, 2014.

Pursuant to this request and in accordance with 19 CFR 351.221(c)(1)(i), on April 1, 2014, the Department published a notice of initiation of an administrative review of the antidumping duty order on wind towers from the PRC with respect to the 47 companies.³ On June 5, 2014, Petitioner withdrew its request for an administrative review of the 47 companies.⁴

³ See Initiation of Antidumping Duty Administrative Reviews and Request for Revocation in Part, 79 FR 18262 (April 1, 2014) (Initiation Notice).

⁴ See Letter from Petitioner, “Utility Scale Wind Towers from the People's Republic of China: Withdrawal of Requests for Administrative Review,” dated June 5, 2014.

Rescission of Review

Pursuant to 19 CFR 351.213(d)(1), the Department will rescind an administrative review, in whole or in part, if the party that requested a review withdraws the request within 90 days of the publication date of the notice of initiation of the requested review. As noted above, Petitioner withdrew its request for review of the 47 companies within 90 days of the publication date of the Initiation Notice of the requested review. No other parties requested an administrative review of the order. Therefore, in accordance with 19 CFR 351.213(d)(1), we are rescinding this review in its entirety.

Assessment

The Department will instruct U.S. Customs and Border Protection (“CBP”) to assess antidumping duties on all appropriate entries of wind towers from China. Antidumping duties shall be assessed at rates equal to the cash deposit of estimated antidumping duties required at the time of entry, or withdrawal from warehouse, for consumption in accordance with 19 CFR 351.212(c)(1)(i). The Department intends to issue appropriate assessment instructions to CBP 15 days after the date of publication of this notice of rescission of administrative review.

Notifications

This notice also serves as a final reminder to importers for whom this review is being rescinded of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is published in accordance with section 751 of the Act, and 19 CFR 351.213(d)(4).

Dated: October 7, 2014.
Christian Marsh,
Deputy Assistant Secretary for Antidumping and Countervailing Duty Operations.

[FR Doc. 2014-24494 Filed 10-14-14; 8:45 am]

BILLING CODE 3510-DS-P